DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains and associated funerary objects was made by Peabody Museum of Archaeology and Ethnology professional staff in consultation with representatives of the Pawnee Nation of Oklahoma.

In 1915, human remains representing one individual were recovered from the Genoa site in Nance County, NE, by Frederick H. Sterns during excavations conducted under the auspices of the Peabody Museum Missouri Valley Expedition. No known individual was identified. The 11 associated funerary objects are fragmentary brass rings.

Museum documentation, historic, and archeological evidence indicate that the interment post-dates sustained contact between indigenous groups and Europeans beginning in the 18th century.

The archeological and historical evidence and the location of the Genoa site within the traditional territory of the Pawnee tribe indicate that the individual is Native American and is culturally affiliated with the present-day Pawnee Nation of Oklahoma.

In 1915, human remains representing one individual were recovered from the Burkett site in Nance County, NE, by Frederick H. Sterns during excavations conducted under the auspices of the Peabody Museum Missouri Valley Expedition. No known individual was identified. No associated funerary objects are present.

Museum documentation, historic, and archeological evidence indicate that the interment post-dates sustained contact between indigenous groups and Europeans beginning in the 18th century. Oral history and the location of the Burkett site within the traditional territory of the Pawnee tribe indicate that the individual is Native American and is culturally affiliated to the present-day Pawnee Nation of Oklahoma.

In 1915, human remains representing one individual were recovered from the Hookstra Farm in Butler County, NE, by Frederick H. Sterns during excavations conducted under the auspices of the Peabody Museum Missouri Valley Expedition. No known individual was identified. No associated funerary objects are present.

Museum documentation, historic, and archeological evidence indicate the interment post-dates sustained contact between indigenous groups and Europeans beginning in the 18th century. Oral history and the location of the Hookstra Farm within the traditional territory of the Pawnee tribe indicate that the individual is Native American and is culturally affiliated to the present-day Pawnee Nation of Oklahoma.

Based on the above-mentioned information, officials of the Peabody Museum of Archaeology and Ethnology have determined that, pursuant to 43 CFR 10.2 (d)(1), the human remains listed above represent the physical remains of three individuals of Native American ancestry. Officials of the Peabody Museum of Archaeology and Ethnology also have determined that, pursuant to 43 CFR 10.2 (d)(2), the 11 objects listed above are reasonably believed to have been placed with or near individual human remains at the time of death or later as part of the death rite or ceremony. Lastly, officials of the Peabody Museum of Archaeology and Ethnology have determined that, pursuant to 43 CFR 10.2 (e), there is a relationship of shared group identity that can be reasonably traced between these Native American human remains and associated funerary objects and the Pawnee Nation of Oklahoma.

This notice has been sent to officials of the Pawnee Nation of Oklahoma. Representatives of any other Indian tribe that believes itself to be culturally affiliated with these human remains and associated funerary objects should contact Barbara Isaac, Repatriation Coordinator, Peabody Museum of Archaeology and Ethnology, 11 Divinity Avenue, Cambridge, MA 02138, telephone (617) 495-2254, before April 19, 2001. Repatriation of the human remains and associated funerary objects to the Pawnee Nation of Oklahoma may begin after that date if no additional claimants come forward.

Dated: February 28, 2001.
John Robbins,
Assistant Director, Cultural Resources Stewardship and Partnerships.

[FR Doc. 01-6851 Filed 3-19-01; 8:45 am]

BILLING CODE 4310-70-F